DEPARTMENT OF HEALTH AND HUMAN SERVICES

Centers for Disease Control and Prevention

Meetings: Disease, Disability, and Injury Prevention and Control Special Emphasis Panel

In accordance with Section 10(a)(2) of the Federal Advisory Committee Act (Pub. L. 92-463), the Centers for Disease Control and Prevention (CDC) announces the following meeting:

Name: Disease, Disability, and Injury Prevention and Control Special Emphasis Panel (SEP): Intervention for Individuals with Fetal Alcohol Syndrome: Transitioning Science to Community Project, Request for Application (RFA) #DD 05-079 and Implementing Community-Level Strategies for Fetal Alcohol Syndrome Prevention and Surveillance in South Africa, RFA #DD 05-118.

Times and Dates: 1 p.m.-5 p.m., August 3, 2005 (Closed).

Place: Teleconference.

Status: The meeting will be closed to the public in accordance with provisions set forth in Section 552b(c)(4) and (6), Title 5 U.S.C., and the Determination of the Director, Management Analysis and Services Office, CDC, pursuant to Public Law 92-463.

Matters To Be Discussed: The meeting will include the review, discussion, and evaluation of applications received in response to: Intervention for Individuals with Fetal Alcohol Syndrome: Transitioning Science to Community Project, Request for Application (RFA) #DD 05-079 and Implementing Community-Level Strategies for Fetal Alcohol Syndrome Prevention and Surveillance in South Africa, RFA #DD 05-118.

For Further Information Contact: Pamela J. Wilkerson, MPA, Scientific Review Administrator, 24 Executive Park Drive, NE., Mailstop E74, Atlanta, GA 30333, Telephone (404) 498-2556.

The Director, Management Analysis and Services Office, has been delegated the authority to sign Federal Register notices pertaining to announcements of meetings and other committee management activities, for both CDC and the Agency for Toxic Substances and Disease Registry.

Dated: July 12, 2005.
Alvin Hall,
Director, Management Analysis and Services Office, Centers for Disease Control and Prevention.

[FR Doc. 05-14162 Filed 7-18-05; 8:45 am]

BILLING CODE 4163-18-P